DEPARTMENT OF COMMERCE

International Trade Administration

[A-201-842]

Large Residential Washers From Mexico: Final Results of Antidumping Duty Administrative Review; 2019-2020; Correction

AGENCY: Enforcement and Compliance, International Trade Administration, Department of Commerce.

SUMMARY: On November 26, 2021, the Department of Commerce (Commerce) inadvertently published duplicate copies of a Federal Register notice. This notice serves as a notification of, and correction to, this inadvertent duplicate publication.

DATES: Applicable December 8, 2021.

FOR FURTHER INFORMATION CONTACT: Elizabeth Eastwood, AD/CVD Operations, Enforcement and Compliance, International Trade Administration, U.S. Department of Commerce, 1401 Constitution Avenue NW, Washington, DC 20230; telephone: (202) 482-3874.

SUPPLEMENTARY INFORMATION:

Background

On November 26, 2021, the Department of Commerce (Commerce) inadvertently published duplicate copies of the final results of the 2019-2020 antidumping duty administrative review of large residential washers from Mexico.¹ The first version of this notice (86 FR 67444) incorrectly listed the applicable date of this notice, which is listed correctly as the publication date (i.e., November 26, 2021) in the second version of this notice (86 FR 67446). The inadvertent duplicate publication of this notice does not constitute redetermination of this proceeding. This notice serves as a notification of, and correction to, this inadvertent duplicate publication.

¹ See Large Residential Washers from Mexico: Final Results of Antidumping Duty Administrative Review; 2019-2020, 86 FR 67444 (November 26, 2021), also published at 86 FR 67446 (November 26, 2021).

Dated: December 2, 2021.
Ryan Majerus,
Deputy Assistant Secretary for Policy and Negotiations, performing the non-exclusive functions and duties of the Assistant Secretary for Enforcement and Compliance.

[FR Doc. 2021-26553 Filed 12-7-21; 8:45 am]

BILLING CODE 3510-DS-P